ELECTION ASSISTANCE COMMISSION

Information Collection; Study of the Feasibility and Advisability of Establishing a Program of Free Return or Reduced Postage for Absentee Ballots—Focus Groups

AGENCY: U.S. Election Assistance Commission (EAC).

ACTION: Notice; request for comments.

SUMMARY: The EAC, as part of its continuing effort to reduce paperwork and respondent burden in accordance with the Paperwork Reduction Act of 1995, invites the general public and other Federal agencies to take this opportunity to comment on a proposed information collection. Comments are invited on: (a) Whether the proposed collection of information is necessary for the proper performance of the functions of the agency, including whether the information shall have practical utility; (b) the accuracy of the agency's estimate of the burden of the proposed information collection, including the validity of the methodology and assumptions used; (c) ways to enhance the quality, utility, and clarity of the information to be collected; and (d) ways to minimize the burden of the information collection on respondents. Comments submitted in response to this notice will be summarized and/or included in the request for OMB approval of this information collection; they also will become a matter of public record.

DATES: Written comments must be submitted on or before January 11, 2007.

ADDRESSES: Submit comments and recommendations on the proposed information collection in writing to the U.S. Election Assistance Commission, 1225 New York Avenue, NW., Suite 1100, Washington, DC 20005, Attn: Ms. Laiza N. Otero (or via the Internet at lotero@eac.gov).

FOR FURTHER INFORMATION CONTACT: To request more information on this proposed information collection or to obtain a copy of the Focus Group Discussion Guide, please, write to the above address or call Ms. Laiza N. Otero at (202) 566-3100. You may also view the proposed collection instrument by visiting our Web site at http://www.eac.gov.

SUPPLEMENTARY INFORMATION:

Title: Study of the Feasibility and Advisability of Establishing a Program of Free Return or Reduced Postage for Absentee Ballots—Focus Groups

OMB Number: Pending.

Type of Review: Regular submission.

Needs and Uses: Sec. 246 of the Help America Vote Act requires the Election Assistance Commission (EAC), in consultation with the United States Postal Service, to conduct a study on the feasibility and advisability of establishing a program under which the U.S. Postal Service shall waive or otherwise reduce the amount of postage applicable with respect to absentee ballots returned by voters in general elections for Federal office. This study does not address the cost to the U.S. Postal Service for free postage for sending absentee ballots but may consider costs to election officials that are related to implementing such a program including the costs of sending absentee ballots to voters. It also does not include consideration of the 39 U.S.C. 3406 provisions for the mailing of balloting materials for military and overseas absentee voters. As part of the study the Commission is directed to conduct a nationwide survey of potential beneficiaries, including the elderly and disabled, and to take into account the results of this survey in determining the feasibility and advisability of establishing such a program. This survey will be supplemented by focus groups among potential beneficiaries—elderly, disabled, low-income—to obtain more specific information on the challenges these populations face when participating in election and to assess the potential benefit these populations might receive from a program of free return or reduced postage for absentee ballots.

At the conclusion of the study effort, EAC is required to submit a report to Congress with recommendations for such legislative and administrative action as EAC determines appropriate. The report shall contain an analysis of the feasibility of implementing such a program and an estimate of the costs. It is required to specifically contain recommendations regarding the elderly and disabled populations, including ways a free absentee ballot return postage program would target these populations and identify methods to increase the number of such individuals who vote in elections for Federal office.

Affected Public: Citizens.

Number of Respondents: 36.

Responses per Respondent: 1.

Estimated Burden per Response: 1.25 hours.

Estimated Total Annual Burden Hours: 45 hours.

Information will be collected through a series of three focus groups comprised of potential beneficiaries of a free and/or discounted absentee ballot postage program: One focus group will be dedicated to issues confronting the elderly population; one focus group will be dedicated to issues confronting disabled people; and one focus group will be dedicated to issues confronting the low-income citizens. At least one official from the United States Postal Service will observe each planned focus group. The topics that will be explored include:

1. The challenges that the particular population faces when participating in elections.

a. Information on respondents' previous experiences with voting in Federal elections. Information on any difficulties encountered in the process of voting and how the issues were resolved.

2. The concerns members of the particular population have about voting (e.g. voter intimidation, voter confidentiality, security, use of ballots).

a. Information on particular incidents that has prevented respondent from being able to vote.

3. The possible remedies to those challenges that would likely increase the rates of voter participation in the particular population (e.g. relaxed absentee voting laws, better accessibility to polling places, voter education).

a. Information on respondents' interest in absentee ballot voting.

4. The likelihood that a free or discounted absentee ballot postage program would assist the particular population.

a. Information on respondents' interest in a program of free or discounted postage for absentee ballots.

5. How the program could possibly be implemented to target the particular population.

a. Information on creating and implementing the program to ensure that it benefits the particular population.

6. The factors that would make reaching the particular population difficult.

a. Information on advertising such a program to the particular population so that they can take advantage of the change.

Thomas R. Wilkey,
Executive Director, U.S. Election Assistance Commission.

[FR Doc. 06-9191 Filed 11-13-06; 8:45 am]

BILLING CODE 6820-KF-M